DEPARTMENT OF COMMERCE

National Oceanic and Atmospheric Administration

Proposed Information Collection; Comment Request; Annual Northern Seal Subsistence Harvest Reporting and St. George Harvest Management Plan

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 13, 2017.

ADDRESSES: Direct all written comments to Jennifer Jessup, Departmental Paperwork Clearance Officer, Department of Commerce, Room 6616, 14th and Constitution Avenue NW., Washington, DC 20230 (or via the Internet at pracomments@doc.gov).

FOR FURTHER INFORMATION CONTACT: Requests for additional information or copies of the information collection instrument and instructions should be directed to Michael Williams, (907) 271-5117, or michael.williams@noaa.gov.

SUPPLEMENTARY INFORMATION:

I. Abstract

The subsistence harvest of northern fur seals is cooperatively managed by the National Oceanic and Atmospheric Administration's (NOAA) National Marine Fisheries Service (NMFS) and the Tribal Governments of St. Paul and St. George Islands (Pribilof Islands) under section 119 of the Marine Mammal Protection Act, 16 U.S.C. 1388 (MMPA) and governed by regulations under section 102 of the Fur Seal Act, 16 U.S.C. 1152 (FSA) found in 50 CFR part 216 subpart F, Taking for Subsistence Purposes. The regulations, laws, and cooperative agreement are focused on conserving northern fur seals through cooperative effort and consultation regarding effective management of human activities related to the subsistence harvests of northern fur seals and Steller sea lions.

This request is for extension of the information collection for the annual subsistence harvests of northern fur seals by Alaska Natives who reside on the Pribilof Islands (Pribilovians) under 50 CFR 216 subpart F.

The estimates of the number of fur seals necessary to satisfy the subsistence requirements of the Pribilovians to comply with 50 CFR 216.672(b) are derived from historic harvest levels reported by, and in direct consultation with, the Tribal Governments of St. Paul and St. George Islands in Alaska and their respective local Native corporations (Tanadgusix and Tanaq).

II. Method of Collection

Reports may be submitted via mail or email.

III. Data

OMB Control Number: 0648-0699.

Form Number(s): None.

Type of Review: Regular submission (extension of a currently approved information collection).

Affected Public: Individuals or households; state, local or tribal government.

Estimated Number of Respondents: 2.

Estimated Time per Response: 20 hours.

Estimated Total Annual Burden Hours: 40.

Estimated Total Annual Cost to Public: $8 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 8, 2017.
Sarah Brabson,
NOAA PRA Clearance Officer.

[FR Doc. 2017-19394 Filed 9-12-17; 8:45 am]

BILLING CODE 3510-22-P